DEPARTMENT OF ENERGY

Federal Energy Regulatory Commission

Combined Notice of Filings

Take notice that the Commission has received the following Natural Gas Pipeline Rate and Refund Report filings:

Filings Instituting Proceedings

Docket Number: PR18-52-000.

Applicants: DTE Gas Company.

Description: Tariff filing per 284.123(b), (e)/: Operating Statement Update to be effective 6/1/2018.

Filed Date: 5/29/18.

Accession Number: 201805295024.

Comments/Protests Due: 5 p.m. ET 6/19/18.

Docket Number: PR18-53-000.

Applicants: Public Service Company of Colorado.

Description: Tariff filing per 284.123(b), (e)+(g): 20180530 SOR Update for PSIA TCJA Adjustments to be effective 5/1/2018.

Filed Date: 5/30/18.

Accession Number: 201805305072.

Comments Due: 5 p.m. ET 6/20/18.

284.123(g) Protests Due: 5 p.m. ET 7/30/18.

Docket Number: PR18-54-000.

Applicants: Louisville Gas and Electric Company.

Description: Tariff filing per 284.123(b), (e)/: Revised Statement of Operating Conditions Gas Line Tracker Charge to be effective 5/1/2018.

Filed Date: 5/30/18.

Accession Number: 201805305073.

Comments/Protests Due: 5 p.m. ET 6/20/18.

Docket Number: PR18-55-000.

Applicants: Dow Pipeline Company.

Description: Tariff filing per 284.123(b), (e)+(g): DPL Housekeeping Filing to be effective 6/1/2018.

Filed Date: 5/31/18.

Accession Number: 201805315008.

Comments Due: 5 p.m. ET 6/21/18.

284.123(g) Protests Due: 5 p.m. ET 7/30/18.

Docket Number: RP17-363-000.

Applicants: Eastern Shore Natural Gas Company.

Description: Report Filing: Refund Report.

Filed Date: 5/30/18.

Accession Number: 20180530-5149.

Comments Due: 5 p.m. ET 6/11/18.

Docket Number: RP18-843-000.

Applicants: Texas Eastern Transmission, LP.

Description: Compliance filing TETLP OFO May 2018 Penalty Disbursement Report.

Filed Date: 5/30/18.

Accession Number: 20180530-5000.

Comments Due: 5 p.m. ET 6/11/18.

Docket Number: RP18-844-000.

Applicants: Algonquin Gas Transmission, LLC.

Description: Compliance filing AGT 2018 OFO Penalty Disbursement Report.

Filed Date: 5/30/18.

Accession Number: 20180530-5011.

Comments Due: 5 p.m. ET 6/11/18.

Docket Number: RP18-845-000.

Applicants: Algonquin Gas Transmission, LLC.

Description: § 4(d) Rate Filing: Negotiated Rate—Boston Gas to BBPC 796568 to be effective 6/1/2018.

Filed Date: 5/30/18.

Accession Number: 20180530-5013.

Comments Due: 5 p.m. ET 6/11/18.

Docket Number: RP18-846-000.

Applicants: Natural Gas Pipeline Company of America.

Description: § 4(d) Rate Filing: NICOR Amendment to Negotiated Rate Agreement to be effective 6/1/2018.

Filed Date: 5/30/18.

Accession Number: 20180530-5049.

Comments Due: 5 p.m. ET 6/11/18.

Docket Number: RP18-847-000.

Applicants: MarkWest Pioneer, L.L.C.

Description: § 4(d) Rate Filing: Quarterly FRP Filing to be effective 7/1/2018.

Filed Date: 5/30/18.

Accession Number: 20180530-5074.

Comments Due: 5 p.m. ET 6/11/18.

Docket Number: RP18-848-000.

Applicants: Transcontinental Gas Pipe Line Company.

Description: § 4(d) Rate Filing: Clean-Up Filing_2018 (a) to be effective 6/30/2018.

Filed Date: 5/30/18.

Accession Number: 20180530-5075.

Comments Due: 5 p.m. ET 6/11/18.

Docket Number: RP18-849-000.

Applicants: KPC Pipeline, LLC.

Description: § 4(d) Rate Filing: Housekeeping and Off-System Capacity Tariff Filing to be effective 7/1/2018.

Filed Date: 5/30/18.

Accession Number: 20180530-5076.

Comments Due: 5 p.m. ET 6/11/18.

Docket Number: RP18-850-000.

Applicants: Transcontinental Gas Pipe Line Company.

Description: § 4(d) Rate Filing: Clean-Up Filing_2018 (b) to be effective 1/1/2013.

Filed Date: 5/30/18.

Accession Number: 20180530-5098.

Comments Due: 5 p.m. ET 6/11/18.

Docket Number: RP18-852-000.

Applicants: Transcontinental Gas Pipe Line Company.

Description: § 4(d) Rate Filing: Clean-Up Filing_2018 (c) to be effective 9/9/2017.

Filed Date: 5/30/18.

Accession Number: 20180530-5118.

Comments Due: 5 p.m. ET 6/11/18.

Docket Number: RP18-853-000.

Applicants: Equitrans, L.P.

Description: § 4(d) Rate Filing: Negotiated Rate Service Agreement—Rice Energy Marketing Name Change to be effective 5/1/2018.

Filed Date: 5/30/18.

Accession Number: 20180530-5250.

Comments Due: 5 p.m. ET 6/11/18.

Docket Number: RP18-854-000.

Applicants: Equitrans, L.P.

Description: § 4(d) Rate Filing: 10-1-2017 Formula-Based Negotiated Rates to be effective 10/1/2017.

Filed Date: 5/30/18.

Accession Number: 20180530-5265.

Comments Due: 5 p.m. ET 6/11/18.

Docket Number: RP18-855-000.

Applicants: Equitrans, L.P.

Description: § 4(d) Rate Filing: Reservation Charge Credit Discount Exemption to be effective 7/1/2018.

Filed Date: 5/31/18.

Accession Number: 20180531-5009.

Comments Due: 5 p.m. ET 6/12/18.

Docket Number: RP18-856-000.

Applicants: Equitrans, L.P.

Description: § 4(d) Rate Filing: Discounting Clarification to be effective 7/1/2018.

Filed Date: 5/31/18.

Accession Number: 20180531-5013.

Comments Due: 5 p.m. ET 6/12/18.

Docket Number: RP18-857-000.

Applicants: Florida Gas Transmission Company, LLC.

Description: § 4(d) Rate Filing: Electric Tracker to be effective 7/1/2018.

Filed Date: 5/31/18.

Accession Number: 20180531-5034.

Comments Due: 5 p.m. ET 6/12/18.

Docket Number: RP18-858-000.

Applicants: Panhandle Eastern Pipe Line Company, LP.

Description: § 4(d) Rate Filing: Negotiated Rates Filing on 5-31-18 to be effective 6/1/2018.

Filed Date: 5/31/18.

Accession Number: 20180531-5035.

Comments Due: 5 p.m. ET 6/12/18.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 31, 2018.
Nathaniel J. Davis, Sr.,
Deputy Secretary.

[FR Doc. 2018-12109 Filed 6-5-18; 8:45 am]

BILLING CODE 6717-01-P